DEPARTMENT OF COMMERCE

National Oceanic and Atmospheric Administration

[I.D. 052201B]

New England Fishery Management Council; Public Meetings

AGENCY: National Marine Fisheries Service (NMFS), National Oceanic and Atmospheric Administration (NOAA), Commerce.

ACTION: Notice of public meeting.

SUMMARY: The New England Fishery Management Council (Council) is scheduling a public meeting of its Joint Groundfish Oversight Committee, Ad Hoc Capacity Committee and Groundfish Advisory Panel in June 2001. Recommendations from these committees will be brought to the full Council for formal consideration and action, if appropriate.

DATES: The meeting will held on Tuesday, June 12, 2001, at 9:30 a.m.

ADDRESSES: The meeting will be held at the Providence Biltmore, Kennedy Plaza, Providence, RI 02903; telephone: (401) 421-0700.

FOR FURTHER INFORMATION CONTACT: Paul J. Howard, Executive Director, New England Fishery Management Council; (978) 465-0492.

SUPPLEMENTARY INFORMATION: There is a concern that fishing effort may increase in the groundfish fishery, threatening recent improvements in stock condition. The Groundfish Oversight Committee, Groundfish Advisory Panel, and Ad Hoc Capacity Committee will meet to review issues concerning latent effort and unused days-at-sea (DAS). They will discuss four alternatives identified by the Capacity Committee in 2000, as well as an additional alternative developed by the Groundfish Plan Development Team (PDT). The joint Committees will review these alternatives, identify possible revisions, and develop recommendations on which, if any, should be included as part of Amendment 13 to the Northeast Multispecies Fishery Management Plan. The Committees may also develop additional options for addressing latent effort, and may develop a schedule for addressing this issue and adopting any suggested management measures.

Although non-emergency issues not contained in this agenda may come before these groups for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: May 23, 2001.
Richard W. Surdi,
Acting Director, Office of Sustainable Fisheries, National Marine Fisheries Service.

[FR Doc. 01-13436 Filed 5-25-01; 8:45 am]

BILLING CODE 3510-22-S